DEPARTMENT OF HOMELAND SECURITY

Agreement Between the Government of the United States of America and the Government of the Republic of Honduras for Cooperation in the Examination of Protection Requests

AGENCY: Department of Homeland Security.

ACTION: Notice of Agreement and Amendment.

SUMMARY: The Department of Homeland Security is publishing the Agreement Between the Government of the United States of America and the Government of the Republic of Honduras for Cooperation in the Examination of Protection Requests, signed at Washington on March 10, 2025 (the “Agreement”). DHS is also publishing an Amendment to the Agreement, which consists of diplomatic notes exchanged at Tegucigalpa on June 25, 2025. The text of the Agreement and the Amendment are set out below.

Robert T. Law,
Senior Counselor, U.S. Department of Homeland Security.

BILLING CODE 9110-9M-P

[FR Doc. 2025-12631 Filed 7-7-25; 8:45 am]

BILLING CODE 9110-9M-C